DEPARTMENT OF ENERGY

Reimbursement for Costs of Remedial Action at Active Uranium and Thorium Processing Sites

AGENCY: Office of Environmental Management, Department of Energy.

ACTION: Notice of the acceptance of Title X claims for reimbursement in fiscal year (FY) 2005 and the acceptance of plans for subsequent remedial action.

SUMMARY: This Notice announces the Department of Energy (DOE) acceptance of claims in FY 2005 from eligible active uranium and thorium processing sites for reimbursement under Title X of the Energy Policy Act of 1992. For FY 2005, Congress has appropriated approximately $80 million for reimbursement of certain costs of remedial action at these sites. Because of the amount of unpaid approved claims within the current reimbursement ceilings (approximately $56 million), DOE plans to accelerate the FY 2005 reimbursements to licensees in advance of the April 30, 2005, regulatory deadline, subject to availability of congressional appropriations for prior year claims that have been previously approved. The approved amount of claims submitted during FY 2004 will be paid by April 30, 2005, subject to the availability of funds. If the available funds are less than the total approved claims, these payments will be prorated, if necessary, based on the amount of available FY 2005 appropriations, unpaid approved claim balances (approximately $56 million), and claims received in May 2004 (approximately $25 million).

This notice also announces the DOE acceptance of plans for subsequent decontamination, decommissioning, reclamation, and other remedial action (Plans for Subsequent Remedial Action). If Title X licensees expect to incur remedial action costs for remedial action after December 31, 2007, licensees must submit a Plan for Subsequent Remedial Action during calendar year (CY) 2005 or 2006, and DOE must approve a Plan submitted by a licensee by the end of CY 2007, if the costs incurred after CY 2007 are to be eligible for reimbursement.

DATES: The closing date for the submission of claims in FY 2005 is May 2, 2005. These new claims will be processed for payment by April 29, 2006, together with unpaid approved claim balances from prior years, based on the availability of funds from congressional appropriations. Plans for Subsequent Remedial Action may be submitted anytime after January 1, 2005, but no later than December 31, 2006.

ADDRESSES: Claims and Plans for Subsequent Remedial Action should be forwarded by certified or registered mail, return receipt requested, to the U.S. Department of Energy, National Nuclear Security Administration Service Center, Environmental Programs Department, PO Box 5400, Albuquerque, NM 87185-5400, or by express mail to the U.S. Department of Energy, National Nuclear Security Administration Service Center, Environmental Programs Department, H and Pennsylvania Streets, Albuquerque, NM 87116. All claims should be addressed to the attention of Mr. Gilbert Maldonado. Two copies of the claim should be included with each submission.

FOR FURTHER INFORMATION CONTACT: Contact Gilbert Maldonado at (505) 845-4035 of the U.S. Department of Energy, National Nuclear Security Administration Service Center, Environmental Programs Department.

SUPPLEMENTARY INFORMATION: DOE published a final rule under 10 CFR part 765 in the Federal Register on May 23, 1994, (59 FR 26714) to carry out the requirements of Title X of the Energy Policy Act of 1992 (sections 1001-1004 of Pub. L. 102-486, 42 U.S.C. 2296a et seq.) and to establish the procedures for eligible licensees to submit claims for reimbursement. DOE amended the final rule on June 3, 2003, (68 FR 32955) to adopt several technical and administrative amendments (e.g., statutory increases in the reimbursement ceilings). Title X requires DOE to reimburse eligible uranium and thorium licensees for certain costs of decontamination, decommissioning, reclamation, and other remedial action incurred by licensees at active uranium and thorium processing sites to remediate byproduct material generated as an incident of sales to the United States Government. To be reimbursable, costs of remedial action must be for work which is necessary to comply with applicable requirements of the Uranium Mill Tailings Radiation Control Act of 1978 (42 U.S.C. 7901 et seq.) or, where appropriate, with requirements established by a State pursuant to a discontinuance agreement under section 274 of the Atomic Energy Act of 1954 (42 U.S.C. 2021). Claims for reimbursement must be supported by reasonable documentation as determined by DOE in accordance with 10 CFR part 765. Funds for reimbursement will be provided from the Uranium Enrichment Decontamination and Decommissioning Fund established at the United States Department of Treasury pursuant to section 1801 of the Atomic Energy Act of 1954 (42 U.S.C. 2297g). Payment or obligation of funds shall be subject to the requirements of the Anti-Deficiency Act (31 U.S.C. 1341).

Authority: Section 1001-1004 of Public Law 102-486, 106 Stat. 2776 (42 U.S.C. 2296a et seq.).

Issued in Washington DC on this 14th of December, 2004.
David E. Mathes,
Office of Commercial Disposition Options, Office of Logistics and Waste Disposition Enhancements.

[FR Doc. 04-27864 Filed 12-20-04; 8:45 am]

BILLING CODE 6450-01-P